DEPARTMENT OF ENERGY

Federal Energy Regulatory Commission

[Docket No. AD06-11-000]

Transparency Provisions of the Energy Policy Act of 2005; Program for the Technical Conference

October 6, 2006.

On September 5, 2006 and on September 29, 2006, the Federal Energy Regulatory Commission (Commission) announced that a conference will be held in the above-referenced proceeding on October 13, 2006, at the Federal Energy Regulatory Commission, 888 First Street, NE., Washington, DC 20426 in the Commission Meeting Room from 9:30 a.m. until 3 p.m. (EDT). The Chairman and Commissioners are expected to attend.

All interested persons are invited to attend. There is no registration or fee to attend.

Sections 316 and 1281 of the Energy Policy Act of 2005,¹ respectively, added section 23 to the Natural Gas Act ² and section 220 to the Federal Power Act.³ These sections provide that the Commission may act to facilitate price transparency in wholesale natural gas and electricity markets, and authorize the Commission to adopt such rules as may be necessary to assure the timely dissemination of information about the availability and prices of natural gas and electric energy and transmission service in such markets.

¹ Energy Policy Act of 2005, §§ 316 and 1281, Pub. L. No. 109-59, 119 Stat. 594, 691-92 and 978-79 (2005).

² 15 U.S.C. § 717t-2 (2005).

³ 16 U.S.C. § 824t (2005).

The conference will consist of two panels. The morning panel will focus on natural gas and the afternoon panel will focus on electric energy. Each panel will include representatives from across the relevant industry, with as broad representation as possible (industry representatives). In addition, representatives from the index publishers, relevant markets, and other market information providers will in attendance and available to answer questions or respond to points during the discussion (information providers). The Commission regrets that all requests to be panelists could not be accommodated because of time limitations. Any interested persons may submit comments into the docket, preferably by November 1, 2006.

Each panel will begin with short statements (no longer than three minutes) by the industry representatives related to the questions published in the September 29, 2006 notice. Following those initial statements, the industry representatives and, as needed, the information providers will engage in discussion led by questions from the Commissioners and staff. Before the end of the panel, the information providers will be permitted a short statement (no longer than two minutes) to respond to issues discussed or to summarize how their services support the goals of market transparency.

The morning panel will focus on facilitating price transparency in markets for the sale or transportation of physical natural gas in interstate commerce.

Panel 1 9 a.m.-11:30 a.m.

• Christopher Conway, President, Conoco/Phillips Gas and Power, and Chairman of Natural Gas Supply Association.

• Donald Santa, President, Interstate Natural Gas Association of America.

• Jane R. Lewis-Raymond, Vice President, General Counsel, Corporate Secretary & Chief Compliance Officer-Piedmont Natural Gas Co., representing the American Gas Association.

• Les Fyock, Vice President, American Public Gas Association.

• Alex Strawn, Senior Purchasing Manager, Proctor & Gamble, and Chairman of Process Gas Consumers.

• Paul Cicio, Executive Director, Industrial Energy Consumers of America

• Sheila Rappazzo, Chief, Gas Policy Office of Gas & Water, NY State Department of Public Service.

To respond to comments and questions from the Commissioners, staff, or industry representatives listed above, the following information providers will be present:

• Michael Prokop, Executive Vice President, Amerex Brokers, LLC.

• Porter Bennett, President, Bentek Data.

• Bob Anderson, Executive Director of CCRO and President of Energy Data. Hub, representing Committee of Chief Risk Officers.

• Sean O'Leary, Chief Executive Officer, Genscape.

• Chuck Vice, President & Chief Operating Officer, InterContinental Exchange (ICE).

• Larry Foster, Global Editorial Director, Power, McGraw Hill Platts.

• Dexter Steiss, Executive Publisher, Natural Gas Intelligence.

• Robert Levin, Senior Vice President, Research Department NYMEX.

• Andrew Ott, Vice President of Market Services, PJM, on behalf of PJM and the ISO/RTO Council.

• Randy Rischard, Publisher, SNL Energy.

The afternoon panel will focus on facilitating price transparency in markets for the sale and transmission of electric energy in interstate commerce.

Panel 2 1 p.m.-3 p.m.

• John E. Shelk, President and Chief Executive Officer, Electric Power Supply Association.

• Gloria Halstead, Director, Federal Agency Relations, Edison Electric Institute.

• Howard Spinner, Virginia State Corporation Commission.

• Jeffrey L. Walker, Senior Vice President President & Chief Risk Officer ACES Power Marketing.

To respond to comments and questions from the Commissioners, staff or industry representatives listed above, the following information providers will be present:

• Michael Prokop, Executive Vice President, Amerex Brokers, LLC.

• Bob Anderson, Executive Director of CCRO and President of Energy Data Hub, representing Committee of Chief Risk Officers.

• Sean O'Leary, Chief Executive Officer, Genscape.

• Chuck Vice, President & Chief Operating Officer, InterContinental Exchange (ICE).

• Brian Jordan, McGraw Hill Platts.

• Ron McNamara, Vice President, Market Management & Chief Economist, MISO.

• Robert Levin, Senior Vice President, Research Department NYMEX.

• Andrew Ott, Vice President of Market Services, on behalf of PJM Interconnection and the ISO/RTO Council.

• Randy Rischard, Publisher, SNL Energy.

The sessions will be dedicated, for the most part, to a discussion of the availability of information that the market deems necessary to transact business effectively and efficiently, how should it be disseminated, what necessary data is in abundance and what data is either hard to acquire or unavailable, and what more (if anything) should the Commission do.

As previously announced, a free webcast of this event will be available through www.ferc.gov. Anyone with Internet access who desires to view this event can do so by navigating to www.ferc.gov's Calendar of Events and locating this event in the Calendar. The event will contain a link to its webcast. The Capitol Connection provides technical support for the webcasts and offers access to the meeting via phone bridge for a fee. If you have any questions, visit www.CapitolConnection.org or contact Danelle Perkowski or David Reininger at 703-993-3100.

Transcripts of the meeting will be available immediately for a fee from Ace Reporting Company (202-347-3700 or 1-800-336-6646). They will be available for free on the Commission's eLibrary system and on the events calendar approximately one week after the meeting.

FERC conferences and meetings are accessible under section 508 of the Rehabilitation Act of 1973. For accessibility accommodations please send an e-mail to accessibility@ferc.gov or call toll free (866) 208-3372 (voice) or 202-502-8659 (TTY), or send a fax to 202-208-2106 with the required accommodations.

Questions about the conference should be directed to Saida Shaalan, by e-mail at Saida.Shaalan@FERC.gov or by phone at 202-502-8278.

Magalie R. Salas,
Secretary.

[FR Doc. E6-16966 Filed 10-12-06; 8:45 am]

BILLING CODE 6717-01-P